DEPARTMENT OF TRANSPORTATION

Federal Aviation Administration

Seventy Eighth Meeting: RTCA Special Committee 147, Minimum Operational Performance Standards for Traffic Alert and Collision Avoidance Systems Airborne Equipment

AGENCY: Federal Aviation Administration (FAA), U.S. Department of Transportation (DOT).

ACTION: Meeting Notice of RTCA Special Committee 147, Minimum Operational Performance Standards for Traffic Alert and Collision Avoidance Systems Airborne Equipment.

SUMMARY: The FAA is issuing this notice to advise the public of the Seventy Eighth meeting of RTCA Special Committee 147, Minimum Operational Performance Standards for Traffic Alert and Collision Avoidance Systems Airborne Equipment.

DATES: The meeting will be held June 3-5, 2014, from 9:00 a.m. to 5:00 p.m.

ADDRESSES: The meeting will be held at Boeing, Classroom 35 (22L18), Building 25-01, 1301 SW. 16th St., Renton, WA 98057.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 147. The agenda will include the following:

June 3

• All day, Surveillance Working Group

• All day, Threat Working Group

June 4

• All day, Surveillance Working Group

• All day, Threat Working Group

June 5

• Opening Plenary Session

○ Chairmen's Opening Remarks/Introductions

○ Approval of Minutes from 78th meeting of SC-147

○ Approval of Agenda

○ Update from Eurocontrol/WG-75

• Interaction with SC 228—MOPS for Unmanned Aerial Systems

○ Approval of SC-228/SC-147 ISRA

○ Status update and feedback from SC 228 plenary briefing

• SESAR Activity Updates

○ Update on SESAR work update & progress (4.8.2/9.47)—TBD

• RTCA Involvement in Run 13 Tuning Process

○ Lunch (12:15-01:00)

• Report from WG-1 (Surveillance and Tracking) on progress on the ACAS X MOPS

○ Report from CSG

○ TA/RA Downlink Proposal

• Report from WG-2 (Threat Resolution) on progress on the ACAS X MOPS

• Kickoff of ACAS X Safety WG

• Additional business

• New Business

• Closing Session

○ Next Meeting Location

○ Action Item review

○ End Meeting

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 6, 2014.
Paige Williams,
Management Analyst, NextGen, Business Operations Group, Federal Aviation Administration.

[FR Doc. 2014-10885 Filed 5-9-14; 8:45 am]

BILLING CODE 4910-13-P